DEPARTMENT OF ENERGY

Federal Energy Regulatory Commission.

18 CFR Part 157

[Docket No. RM25-14-000]

Implementation of the Executive Order Entitled “Zero-Based Regulatory Budgeting To Unleash American Energy”; Correction

AGENCY: Federal Energy Regulatory Commission.

ACTION: Correcting amendment.

SUMMARY: The Federal Energy Regulatory Commission (FERC) published a direct final rule in the Federal Register of October 21, 2025, revising its regulations to insert a conditional sunset date into certain regulations in response to Executive Order 14270, “Zero-Based Regulatory Budgeting to Unleash American Energy.” The document contained an error. This document corrects the regulations.

DATES: This correction is effective February 6, 2026.

FOR FURTHER INFORMATION CONTACT: Karin Herzfeld, Office of the General Counsel, Federal Energy Regulatory Commission, 888 First Street NE, Washington, DC 20426, (202) 502-8459, karin.herzfeld@ferc.gov.

SUPPLEMENTARY INFORMATION: In FR Doc. 2025-19607 (193 FERC ¶ 61,002) (90 FR 48397, October 21, 2025), FERC added a conditional sunset date to § 157.202 at paragraph (b)(2)(ii)(H) in error. FERC is removing paragraph (b)(2)(ii)(H).

List of Subject in 18 CFR Part 157

Administrative practice and procedure, Natural gas, Reporting and recordkeeping requirements.

Accordingly, 18 CFR part 157 is corrected by making the following correcting amendment:

PART 157—APPLICATIONS FOR CERTIFICATES OF PUBLIC CONVENIENCE AND NECESSITY AND FOR ORDERS PERMITTING AND APPROVING ABANDONMENT UNDER SECTION 7 OF THE NATURAL GAS ACT

1. The authority citation for part 157 continues to read as follows:

Authority: 15 U.S.C. 717-717w, 3301-3432; 42 U.S.C. 7101-7352.

§ 157.202 [Amended]

2. In § 157.202, remove paragraph (b)(2)(ii)(H).

Issued: February 4, 2026.
Debbie-Anne A. Reese,
Secretary.

[FR Doc. 2026-02431 Filed 2-5-26; 8:45 am]

BILLING CODE 6717-01-P